DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On December 19, 2019, OFAC determined that the property and interests in property subject to U.S. jurisdiction of the following persons are blocked under the relevant sanctions authorities listed below.

Individuals

1. CRUZ OVALLE, Juan Carlos (a.k.a. “EL HIELERO”), 5 Calle, 1-35, Zona 1, Tecun Uman, Ayutla, San Marcos, Guatemala; DOB 11 Sep 1975; alt. DOB 06 Nov 1975; POB Puerto Barrios, Izabal, Guatemala; nationality Guatemala; Gender Male; Cedula No. L-1225277 (Guatemala); NIT #844191K (Guatemala); C.U.I. 1678215981801 (Guatemala) (individual) [SDNTK] (Linked To: JC CAR AUDIO; Linked To: STAR MARKET MELANYE). Designated pursuant to section 805(b)(2) of the Foreign Narcotics Kingpin Designation Act (“Kingpin Act”), 21 U.S.C. 1904(b)(2), for materially assisting in, or providing financial or technological support for or to, or providing goods or services in support of, the international narcotics trafficking activities of Erik Salvador SUNIGA RODRIGUEZ, a foreign person identified as a significant foreign narcotics trafficker pursuant to the Kingpin Act.

2. JUI ESCOBAR, Wildin Tulio (Latin: JUÍ ESCOBAR, Wildin Tulio), 6 Calle 5-181, Tecun Uman Zona 2, Ayutla, San Marcos, Guatemala; Kilometro 252 y medio, Tecun Uman, San Marcos, Guatemala; DOB 03 Nov 1968; POB Coatepeque, Quetzaltenango, Guatemala; nationality Guatemala; Gender Male; Cedula No. L-1220608 (Guatemala); Passport 00020608K (Guatemala); NIT #7690495 (Guatemala); Driver's License No. 1112170002060K (Guatemala); C.U.I. 2891761150920 (Guatemala) (individual) [SDNTK] (Linked To: MULTISERVICIOS Y FINCA EL ENCANTO). Designated pursuant to section 805(b)(2) of the Foreign Narcotics Kingpin Designation Act (“Kingpin Act”), 21 U.S.C. 1904(b)(2), for materially assisting in, or providing financial or technological support for or to, or providing goods or services in support of, the international narcotics trafficking activities of Erik Salvador SUNIGA RODRIGUEZ, a foreign person identified as a significant foreign narcotics trafficker pursuant to the Kingpin Act.

3. PARADA RODRIGUEZ, Alex Oswaldo (Latin: PARADA RODRÍGUEZ, Alex Oswaldo) (a.k.a. “LA PANTERA”), 1 Calle 2 Ave. 1-15, Zona 1, Tecun Uman, Ayutla, San Marcos, Guatemala; DOB 15 Aug 1969; POB Tiquisate, Escuintla, Guatemala; nationality Guatemala; Gender Male; Cedula No. L-1220627 (Guatemala); NIT #66865883 (Guatemala); C.U.I. 1916038210506 (Guatemala) (individual) [SDNTK] (Linked To: SUNIGA RODRIGUEZ DRUG TRAFFICKING ORGANIZATION; Linked To: CEVICHERIA LA CONCHA). Designated pursuant to section 805(b)(2) of the Foreign Narcotics Kingpin Designation Act (“Kingpin Act”), 21 U.S.C. 1904(b)(2), for materially assisting in, or providing financial or technological support for or to, or providing goods or services in support of, the international narcotics trafficking activities of the SUNIGA RODRIGUEZ DRUG TRAFFICKING ORGANIZATION, a foreign person identified as a significant foreign narcotics trafficker pursuant to the Kingpin Act.

4. SUNIGA RODRIGUEZ, Erik Salvador (Latin: SUÑIGA RODRÍGUEZ, Erik Salvador) (a.k.a. ZUNIGA RODRIGUEZ, Erick Salvador (Latin: ZÚÑIGA RODRÍGUEZ, Erick Salvador); a.k.a. “EL POCHO”), Caserio Las Delicias, Ayutla, San Marcos, Guatemala; DOB 19 Nov 1975; POB La Nueva Concepcion, Escuintla, Guatemala; nationality Guatemala; Gender Male; Cedula No. L1225520 (Guatemala); Passport 199573956 (Guatemala); NIT #7174713 (Guatemala); Driver's License No. 1995739560513 (Guatemala); C.U.I. 1995739560513 (Guatemala) (individual) [SDNTK]. Identified as a significant foreign narcotics trafficker pursuant to section 805(b)(1) of the Kingpin Act, 21 U.S.C. 1904(b)(1).

5. SUNIGA RODRIGUEZ, Jose Juan (Latin: SUÑIGA RODRÍGUEZ, Jose Juan), 1 Avenida 1-51, zona 1, Ayutla, San Marcos, Guatemala; DOB 17 Dec 1972; POB Guatemala City, Guatemala, Guatemala; nationality Guatemala; Gender Male; Cedula No. L-1227200 (Guatemala); Passport 164629459 (Guatemala); NIT #1198063K (Guatemala); C.U.I. 1646294590101 (Guatemala) (individual) [SDNTK] (Linked To: RANCHO LA DORADA). Designation Act (“Kingpin Act”), 21 U.S.C. 1904(b)(2), for materially assisting in, or providing financial or technological support for or to, or providing goods or services in support of, the international narcotics trafficking activities of Erik Salvador SUNIGA RODRIGUEZ, a foreign person identified as a significant foreign narcotics trafficker pursuant to the Kingpin Act.

Entities

1. CEVICHERIA LA CONCHA, Aldea Sanjon San Lorenzo, Tecun Uman, Ayutla, San Marcos, Guatemala; NIT #6686588-3 (Guatemala) [SDNTK]. Designated pursuant to section 805(b)(3) of the Kingpin Act, 21 U.S.C. 1904(b)(3), for being owned, controlled, or directed by, or acting for or on behalf of, Alex Oswaldo PARADA RODRIGUEZ, a foreign person designated pursuant to the Kingpin Act.

2. JC CAR AUDIO, 05 Calle, Zona 1, Tecun Uman, San Marcos, Guatemala; NIT #844191-K (Guatemala) [SDNTK]. Designated pursuant to section 805(b)(3) of the Kingpin Act, 21 U.S.C. 1904(b)(3), for being owned, controlled, or directed by, or acting for or on behalf of, Juan Carlos CRUZ OVALLE, a foreign person designated pursuant to the Kingpin Act.

3. MULTISERVICIOS Y FINCA EL ENCANTO, Kilometro 252 y medio, Tecun Uman, San Marcos, Guatemala; NIT #769049-5 (Guatemala); Trade License No. 333575-429-295 (Guatemala) [SDNTK]. Designated pursuant to section 805(b)(3) of the Kingpin Act, 21 U.S.C. 1904(b)(3), for being owned, controlled, or directed by, or acting for or on behalf of, Wildin Tulio JUI ESCOBAR, a foreign person designated pursuant to the Kingpin Act.

4. RANCHO LA DORADA, 2o Callejon, Caserio las Delicias, Ayutla, San Marcos, Guatemala; NIT #1198063-K (Guatemala) [SDNTK]. Designated pursuant to section 805(b)(3) of the Kingpin Act, 21 U.S.C. 1904(b)(3), for being owned, controlled, or directed by, or acting for or on behalf of, a Jose Juan SUNIGA RODRIGUEZ, foreign person designated pursuant to the Kingpin Act.

5. STAR MARKET MELANYE, 3A. Avenida 2-10 Zona 1, Tecun Uman, Ayutla, San Marcos, Guatemala; NIT #844191-K (Guatemala) [SDNTK]. Designated pursuant to section 805(b)(3) of the Kingpin Act, 21 U.S.C. 1904(b)(3), for being owned, controlled, or directed by, or acting for or on behalf of, a Juan Carlos CRUZ OVALLE, foreign person designated pursuant to the Kingpin Act.

6. SUNIGA RODRIGUEZ DRUG TRAFFICKING ORGANIZATION (Latin: SUÑIGA RODRIGUEZ DRUG TRAFFICKING ORGANIZATION) (a.k.a. “LOS POCHOS DTO”), Ayutla, San Marcos, Guatemala [SDNTK]. Identified as a significant foreign narcotics trafficker pursuant to section 805(b)(1) of the Kingpin Act, 21 U.S.C. 1904(b)(1).

Dated: December 19, 2019.
Andrea M. Gacki,
Director, Office of Foreign Assets Control.

[FR Doc. 2019-27817 Filed 12-23-19; 8:45 am]

BILLING CODE 4810-AL-P